DEPARTMENT OF HEALTH AND HUMAN SERVICES

National Institutes of Health

Center for Scientific Review; Amended Notice of Meeting

Notice is hereby given of a change in the meeting of the Center for Scientific Review Special Emphasis Panel, May 26, 2010, 11 a.m. to May 26, 2010, 2 p.m., National Institutes of Health, 6701 Rockledge Drive, Bethesda, MD 20892 which was published in the Federal Register on April 21, 2010, 75 FR 20852-20853.

The meeting title has been changed to “Meeting Conflict: Cancer Biomarker.” The meeting is closed to the public.

Dated: April 28, 2010.
Jennifer Spaeth,
Director, Office of Federal Advisory Committee Policy.

[FR Doc. 2010-10145 Filed 4-29-10; 8:45 am]

BILLING CODE 4140-01-P